DEPARTMENT OF THE TREASURY

Bureau of Engraving and Printing

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Engraving and Printing within the Department of the Treasury is soliciting comments concerning the Owner's Affidavit of Partial Destruction of Mutilated Currency.

DATES: Written comments should be received on or before October 8, 2005, to be assured of consideration.

ADDRESSES: Direct all written comments to Department of Treasury, Bureau of Engraving and Printing, Pamela V. Grayson, 14th & C Streets, SW., Washington, DC 20228, (202) 874-2212.

FOR FURTHER INFORMATION CONTACT: Requests for additional information or copies of the form(s) and instructions should be directed to Department of Treasury, Bureau of Engraving and Printing, Lorraine Robinson, 14th & C Streets, SW., Washington, DC 20228, (202) 874-2532.

SUPPLEMENTARY INFORMATION: Title: Owner's Affidavit of Partial Destruction of Mutilated Currency.

OMB Number: 1520-0001.

Form Number: BEP 5283.

Abstract: The Office of Currency Redemption and Destruction Standards, Bureau of Engraving and Printing, requests owners of partially destroyed U.S. currency to complete a notarized affidavit (form BEP 5283) for each claim submitted when substantial portions of notes are missing.

Type of Review: Reinstatement (without change).

Affected Public: Individuals or households.

Estimated Number of Respondents: 150.

Estimated Total Annual Burden Hours: 90.

Request for Comments: Comments submitted in response to this notice will be summarized and/or included in the request for OMB approval. All comments will become a matter of public record. Written comments should address the accuracy of the burden estimates and ways to minimize burden including the use of automated collection techniques or the use of other forms of information technology, as well as other relevant aspects of the information collection request.

Date: August 4, 2005.
Pamela V. Grayson,
Management Analyst.

[FR Doc. 05-15686 Filed 8-8-05; 8:45 am]

BILLING CODE 4840-01-P